DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held December 6, 2007 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The agenda will include:

December 6

• Opening Session (Welcome, Introductory Remarks, Review/Approve Summary of October 11, 2007 PMC Meeting, RTCA Paper No. 258-07/PMC-572).

• Publication Consideration/Approval:

• Final Draft, Change 1 to DO-294B, Guidance on Allowing Transmitting Portable Electronic Devices (T-PEDS) on Aircraft, RTCA Paper No. 272-07/PMC-579, prepared by SC-202.

• Final Draft, New Document, Operational Services and Environment Definition (OSED) for Aeronautical Information Services (AIS) and Meteorological (MET) Data Link Services, RTCA Paper No. 265-07/PMC-576, prepared by SC-206.

• Final Draft, Revised DO-204, Minimum Operational Performance Standards for 406 MHz Emergency Locator Transmitters (ELT), RTCA Paper No. 267-07/PMC-577, Prepared by SC-204.

• Final Draft, Revised DO-160E, Environmental Conditions and Test Procedures for Airborne Equipment, RTCA Paper No. 273-07/PMC-580, Prepared by SC-135.

• Discussion:

• SC-210—Cabin Management Systems—Discussion—Consider Proposed Co-Chairman.

• SC-214—Standards for Air Traffic Data Communication Services—Discussion/Review/Approve Terms of Reference.

• Special Committee Chairman's Reports.

• Action Item Review:

• SC-147—Traffic Alert & Collision Avoidance System—Discussion—PMC Ad Hoc Subgroup-Report.

• SC-203—Unmanned Aircraft Systems (UAS)—Discussion—Status Review—PMC Ad Hoc Subgroup—Report.

• Closing Session (Other Business, Document Production, Date and Place of Next Meeting, Adjourn).

Attendance is open to the interested public but limited to space availability. With the approval of the chairman, members of the public may present oral statements at the meeting. Persons wishing to present statements or obtain information should contact the person listed in the FOR FURTHER INFORMATION CONTACT Section. Members of the public may present a written statement to the committee at any time.

Issued in Washington, DC, on November 13, 2007.
Francisco Estrada C.,
RTCA Advisory Committee.

[FR Doc. 07-5764 Filed 11-20-07; 8:45 am]

BILLING CODE 4910-13-M